DEPARTMENT OF THE INTERIOR

National Park Service

[NPS-WASO-NAGPRA-NPS0039361; PPWOCRADN0-PCU00RP14.R50000]

Notice of Intended Disposition: U.S. Department of Agriculture, Forest Service, Prescott National Forest, Chino Valley, AZ

AGENCY: National Park Service, Interior.

ACTION: Notice.

SUMMARY: In accordance with the Native American Graves Protection and Repatriation Act (NAGPRA), the U.S. Department of Agriculture, Forest Service, Prescott National Forest (PNF) intends to carry out the disposition of human remains removed from Federal or Tribal lands to the lineal descendants, Indian Tribe, or Native Hawaiian organization with priority for disposition in this notice.

DATES: Disposition of the human remains in this notice may occur on or after February 18, 2025. If no claim for disposition is received by January 20, 2026, the human remains in this notice will become unclaimed human remains.

ADDRESSES: Sarah Clawson, Forest Supervisor, Prescott National Forest, 735 N. Highway 89, Chino Valley, AZ 86323, telephone (928) 443-8213, email sarah.clawson@usda.gov.

SUPPLEMENTARY INFORMATION: This notice is published as part of the National Park Service's administrative responsibilities under NAGPRA. The determinations in this notice are the sole responsibility of the Prescott National Forest, and additional information on the human remains in this notice, including the results of consultation, can be found in the related records. The National Park Service is not responsible for the identifications in this notice.

Abstract of Information Available

Based on the information available, human remains representing, at least, one individual have been reasonably identified. No associated funerary objects are present. Human remains were discovered and removed on December 1, 2020 in Hell Canyon (Chino Valley Ranger District, Yavapai County, Arizona). PNF Staff traveled to the discovery location and found two additional bone fragments and those were stabilized near their original location. The discovery location was assigned a site number, AR-03-09-01-1965, and is being monitored by PNF archaeologists. The human remains are currently secured in a safe location away from public view at the Verde Valley Archaeological Center, Camp Verde, Arizona.

Based on the information available, human remains representing, at least, one individual have been reasonably identified. No associated funerary objects are present. Human remains of one individual were removed from an eroding cutbank near the Verde River (Chino Valley Ranger District, Yavapai County, Arizona) in 2014. Additional human remains were observed deeper in the cutbank and were stabilized in place. The discovery location was assigned a site number, AR-03-09-01-1841, and is being monitored by PNF archaeologists. The human remains are currently secured in a safe location away from public view at the Sharlot Hall Museum, Prescott, Arizona.

Determinations

The Prescott National Forest has determined that:

• The human remains described in this notice represent the physical remains of two individuals of Native American ancestry.

• The Ak-Chin Indian Community; Cocopah Tribe of Arizona; Colorado River Indian Tribes of the Colorado River Indian Reservation, Arizona and California; Fort McDowell Yavapai Nation, Arizona; Fort Mojave Indian Tribe of Arizona, California & Nevada; Gila River Indian Community of the Gila River Indian Reservation, Arizona; Havasupai Tribe of the Havasupai Reservation, Arizona; Hopi Tribe of Arizona; Hualapai Indian Tribe of the Hualapai Indian Reservation, Arizona; Pascua Yaqui Tribe of Arizona; Quechan Tribe of the Fort Yuma Indian Reservation, California & Arizona; Salt River Pima-Maricopa Indian Community of the Salt River Reservation, Arizona; San Carlos Apache Tribe of the San Carlos Reservation, Arizona; Tohono O'odham Nation of Arizona; Tonto Apache Tribe of Arizona; Yavapai-Apache Nation of the Camp Verde Indian Reservation, Arizona; Yavapai-Prescott Indian Tribe; and the Zuni Tribe of the Zuni Reservation, New Mexico have priority for disposition of the human remains described in this notice.

Claims for Disposition

Written claims for disposition of the human remains in this notice must be sent to the appropriate official identified in this notice under ADDRESSES. If no claim for disposition is received by January 20, 2026, the human remains in this notice will become unclaimed human remains. Claims for disposition may be submitted by:

1. Any lineal descendant, Indian Tribe, or Native Hawaiian organization identified in this notice.

2. Any lineal descendant, Indian Tribe, or Native Hawaiian organization not identified in this notice who shows, by a preponderance of the evidence, that they have priority for disposition.

Disposition of the human remains in this notice may occur on or after February 18, 2025. If competing claims for disposition are received, the Prescott National Forest must determine the most appropriate claimant prior to disposition. Requests for joint disposition of the human remains are considered a single request and not competing requests. The Prescott National Forest is responsible for sending a copy of this notice to the lineal descendants, Indian Tribes, and Native Hawaiian organizations identified in this notice and to any other consulting parties.

Authority: Native American Graves Protection and Repatriation Act, 25 U.S.C. 3002, and the implementing regulations, 43 CFR 10.7.

Dated: January 13, 2025.
Melanie O'Brien,
Manager, National NAGPRA Program.

[FR Doc. 2025-01173 Filed 1-16-25; 8:45 am]

BILLING CODE 4312-52-P